FEDERAL COMMUNICATIONS COMMISSION

[OMB 3060-XXXX; FR ID 139745]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before July 3, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-XXXX.

Title: Incarcerated People's Communications Services (IPCS) 2023 Mandatory Data Collection, WC Docket Nos. 23-62, 12-375, FCC 23-19.

Form Number(s): FCC Form 2303(a) and FCC Form 2303(b).

Type of Review: New collection.

Respondents: Business or other for-profit.

Number of Respondents and Responses: 30 respondents; 30 responses.

Estimated Time per Response: 230 hours.

Frequency of Response: One-time reporting requirement.

Obligation to Respond: Required to obtain or retain benefits. Statutory authority for this collection of information is contained in sections 1, 2, 4(i)-(j), 5(c), 201(b), 218, 220, 225, 255, 276, 403, and 716 of the Communications Act of 1934, as amended, 47 U.S.C. 151, 152,154(i)-(j), 155(c), 201(b), 218, 220, 225, 255, 276, 403, and 617, and the Martha Wright-Reed Act, Public Law 117-338, 136 Stat. 6156 (2022).

Total Annual Burden: 6,900 hours.

Total Annual Cost: No cost.

Needs and Uses: On March 17, 2023, the Commission released the Incarcerated People's Communications Services; Implementation of the Martha Wright-Reed Act; Rates for Interstate Inmate Calling Services, WC Docket Nos. 23-62, 12-375, Notice of Proposed Rulemaking and Order, FCC 23-19, 88 FR 20804 (Notice of Proposed Rule Making) and 88 FR 19001 (Order), in which it began the process of implementing the Martha Wright-Reed Just and Reasonable Communications Act of 2022, Public Law 117-338, 136 Stat. 6156 (the Act). The Act expands the Commission's statutory authority to encompass “any audio or video communications service used by inmates . . . regardless of technology used.” The Act also amends section 2(b) of the Communications Act of 1934, as amended to make clear that the Commission's jurisdiction extends to intrastate as well as interstate and international communications services used by incarcerated people.

The Act directs the Commission to “promulgate any regulations necessary to implement” the statutory provisions, including its mandate that the Commission establish a “compensation plan” ensuring that all rates and charges for IPCS “are just and reasonable,” not earlier than 18 months and not later than 24 months after its January 5, 2023 enactment. The Act also requires the Commission to consider, as part of its implementation, the costs of “necessary” safety and security measures, as well as “differences in costs” based on facility size, or “other characteristics.” It allows the Commission to “use industry-wide average costs of telephone service and advanced communications services and the average costs of service of a communications service provider” in determining just and reasonable rates.

To ensure that it has the data needed to meet its substantive and procedural responsibilities under the Act, the Commission delegated to the Wireline Competition Bureau (WCB) and the Office of Economics and Analytics (OEA) (collectively, WCB/OEA) authority to “update and restructure” the Commission's latest mandatory data collection, the Third Mandatory Data Collection (OMB Control No. 3060-1300, Inmate Calling Services (ICS) 2022 One-Time Mandatory Data Collection), “as appropriate in light of the requirements of the new statute.” This delegation requires WCB/OEA to collect “data on all incarcerated people's communications services from all providers of those services now subject to” the Commission's expanded ratemaking authority, including, but not limited to, requesting “more recent data for additional years not covered by the most recent data collection.”

Pursuant to their delegated authority, WCB/OEA drafted proposed instructions, a template, and a certification form for the proposed 2023 Mandatory Data Collection. See 2023 IPCS Mandatory Data Collection—Proposed Instructions, available for download at https://www.fcc.gov/document/2023-ipcs-mandatory-data-collection-proposed-instructions. Under WCB/OEA's proposals, IPCS providers would be required to submit the required data using a reporting template that would be filed through the Commission's electronic comment filing system. The proposed template consists of a Word document (Appendix A to the instructions) for responses requiring narrative information and Excel spreadsheets (Appendix B to the instructions) for responses that require specific numbers or information. IPCS providers would also be required to submit an audited financial statement or report for 2022, and a signed certification of truthfulness, accuracy, and completeness. The instructions, template, and certification form would simplify compliance with, and reduce the burden of, this data collection. These proposed documents will be submitted to the Office of Management and Budget as FCC Form 2303(a) and FCC Form 2303(b).

On April 28, 2023, WCB/OEA released a Public Notice seeking comment on all aspects of the proposed instructions, template, and certification form. See Proposed 2023 IPCS Mandatory Data Collection Public Notice, available for download at https://www.fcc.gov/document/proposed-2023-ipcs-mandatory-data-collection-public-notice. WCB/OEA will consider comments submitted in response to both the Public Notice and this notice in finalizing the proposed data collection prior to submitting the documents to the Office of Management and Budget.

Federal Communications Commission.
Katura Jackson,
Federal Register Liaison Officer.

[FR Doc. 2023-09501 Filed 5-2-23; 8:45 am]

BILLING CODE 6712-01-P